DEPARTMENT OF TRANSPORTATION

Coast Guard

33 CFR Part 117

[CGD08-00-005]

Drawbridge Operating Regulation; Chef Menteur Pass, LA

AGENCY: Coast Guard, DOT.

ACTION: Notice of temporary deviation from regulations; request for comments.

SUMMARY: The Commander, Eighth Coast Guard District, has issued a temporary deviation from the regulation governing the operation of the U.S. Highway 90 bridge across Chef Menteur Pass, mile 2.8, at Lake Catherine, Orleans Parish, Louisiana. This deviation will test a proposed change to the drawbridge operation schedule. This deviation will change the current morning bridge closure period from 5:30 a.m. to 7:30 a.m., Monday through Friday, except Federal holidays, so that the draw will open on the hour and half-hour during this period. The test deviation will be used to evaluate the effectiveness of a proposed change to the draw operation schedule.

DATES: This deviation is effective from Thursday, June 1, 2000 through Friday, June 30, 2000. Comments must be submitted by July 31, 2000.

ADDRESSES: You may mail comments to Commander (ob), Eighth Coast Guard District, 501 Magazine Street, New Orleans, Louisiana 70130-3396, or deliver them to room 1313 at the same address between 7 a.m. and 3 p.m., Monday through Friday, except Federal holidays. The Commander, Eighth Coast Guard District, Bridge Administration Branch maintains the public docket for this rulemaking. Comments and material received from the public, as well as documents indicated in this preamble as being available in the docket, will become part of this docket and will be available for inspection or copying at the Bridge Administration Branch, Eighth Coast Guard District between 7 a.m. and 3 p.m., Monday through Friday, except Federal holidays.

FOR FURTHER INFORMATION CONTACT: Phil Johnson, Bridge Administration Branch, telephone (504) 589-2965.

SUPPLEMENTARY INFORMATION: On February 23, 1999 the operating regulation for the Chef Menteur Pass Bridge was changed to allow the bridge to remain closed to navigation from 5:30 a.m. to 7:30 a.m., Monday through Friday, except Federal holidays. (CGD8-96-053, 64 FR 8720 dated February 23, 1999). The Coast Guard received numerous complaints from operators of commercial fishing vessels, stating that the special operating regulation does not meet the needs of navigation for local commercial fishermen because they are required to haul in their shrimp nets two hours earlier than necessary to be able pass through the bridge before the closure time. This cuts down trawling time resulting in loss of revenue. Based on complaints from local commercial fishermen, the Coast Guard has determined that the special drawbridge operating regulation may not meet the reasonable needs of navigation.

The Coast Guard is proposing a change to the regulation governing the operation of the bridge and has issued a Notice of Proposed Rulemaking (NPRM) published elsewhere in today's Federal Register. The NPRM requests comments on the Coast Guard's proposal to modify the 33 CFR 117.436 to require the bridge to open only on the hour and on the half-hour from 5:30 a.m. to 7:30 a.m., Monday through Friday, except Federal holidays. The draw shall open on signal at all other times or at any time for a vessel in distress. The deviation to the current regulations allows the Coast Guard to test the proposed schedule and evaluate its effectiveness before making a permanent change to the drawbridge opening regulation. Comments will be accepted through July 31, 2000.

Under the temporary deviation, the draw of the U. S. Highway 90 bridge across Chef Menteur Pass, mile 2.8 at Lake Catherine, Orleans Parish, Louisiana will open to navigation only on the hour and on the half-hour between the hours of 5:30 a.m. and 7:30 a.m. from June 1, 2000 through June 30, 2000. The draw shall open on signal at all other times or at any time for a vessel in distress.

Dated: May 1, 2000.
K.J. Eldridge,
Captain, U.S. Coast Guard, Commander, 8th Coast Guard Dist., Acting.

[FR Doc. 00-11704 Filed 5-9-00; 8:45 am]

BILLING CODE 4910-15-P